DEPARTMENT OF ENERGY

Federal Energy Regulatory Commission

[Docket No. CP04-368-000]

El Paso Natural Gas Company; Notice of Request for Authorization

July 2, 2004.

Take notice that on June 25, 2004, El Paso Natural Gas Company (El Paso), P.O. Box 1087, Colorado Springs, Colorado 80904, filed in Docket No. CP04-368-000, a request pursuant to section 157.216(b) and 157.208(b) of the Commission's Regulations (18 CFR 157.214) to abandon, by removal, its 7.1 mile 10¾ inch diameter Nevada Loop Line (Line No. 2112), and replace two segments of its 16 inch diameter Nevada Loop Line (Line No. 2121), totaling 17.2 miles, located in Mohave County, Arizona, all as more fully set forth in the application on file with the Commission and open for public review.

Any questions regarding this application should be directed to Robert T. Tomlinson, Director, Regulatory Affairs, El Paso Natural Gas Company, P.O. Box 1087, Colorado Springs, Colorado, 80944, at (719) 520-3788.

This filing is available for review at the Commission or may be viewed on the Commission's Web site at http://www.ferc.gov using the “eLibrary” link. Enter the docket number excluding the last three digits in the docket number field to access the document. For assistance, please contact FERC Online Support at FERCOnlineSupport@ferc.gov or call toll-free at (866) 208-3676, or for TTY, contact (202) 502-8659. Protests, comments and interventions may be filed electronically via the Internet in lieu of paper; see, 18 CFR 385.2001(a)(1)(iii) and the instructions on the Commission's Web site under the “e-Filing” link. The Commission strongly encourages interveners to file electronically.

Any person or the Commission's staff may, within 45 days after issuance of the instant notice by the Commission, file pursuant to Rule 214 of the Commission's Procedural Rules (18 CFR 385.214) a motion to intervene or notice of intervention and pursuant to section 157.205 of the Regulations under the Natural Gas Act (18 CFR 157.205) a protest to the request. If no protest is filed within the time allowed therefore, the proposed activity shall be deemed to be authorized effective the day after the time allowed for filing a protest. If a protest is filed and not withdrawn within 30 days after the time allowed for filing a protest, the instant request shall be treated as an application for authorization pursuant to section 7 of the Natural Gas Act.

Comment Date: July 23, 2004.

Magalie R. Salas,
Secretary.

[FR Doc. E4-1654 Filed 7-26-04; 8:45 am]

BILLING CODE 6717-01-P